DEPARTMENT OF AGRICULTURE

Federal Crop Insurance Corporation

7 CFR Parts 407 and 457

RIN 0563-AC70

[Docket ID FCIC-20-0008]

Area Risk Protection Insurance Regulations; Common Crop Insurance Policy Basic Provisions; Common Crop Insurance Regulations, Sunflower Seed Crop Insurance Provisions; and Common Crop Insurance Regulations, Dry Pea Crop Insurance Provisions

AGENCY: Federal Crop Insurance Corporation, USDA.

ACTION: Correcting amendment.

SUMMARY: On November 30, 2020, the Federal Crop Insurance Corporation published a final rule which revised the Area Risk Protection Insurance Regulations; Common Crop Insurance Policy Basic Provisions; Common Crop Insurance Regulations, Sunflower Seed Crop Insurance Provisions; and Common Crop Insurance Regulations, and Dry Pea Crop Insurance Provisions. Changes were published in the final rule that were inadvertently not incorporated when the changes were made in the Code of Federal Regulations (CFR) as currently reflected in the electronic CFR. This rule makes those corrections.

DATES: Effective: February 24, 2021.

FOR FURTHER INFORMATION CONTACT: Francie Tolle; telephone (816) 926-7730; email francie.tolle@usda.gov. Persons with disabilities who require alternative means of communication should contact the USDA Target Center at (202) 720-2600 (voice).

SUPPLEMENTARY INFORMATION:

Background

We published a final rule in the Federal Register on November 30, 2020, (85 FR 76420-76428), that included changes to the Cancellation and Termination Dates in the Sunflower Seed Crop Insurance provisions and the Insurance Period in the Dry Pea Crop Insurance provisions. Changes were published in the final rule that were inadvertently not incorporated when the changes were made in the Code of Federal Regulations (CFR) as currently reflected in the electronic CFR. Additionally, there was a typo in one of the changes. This rule makes the required corrections.

This correction is being published to correct section 4, Cancellation and Termination Dates, in the Sunflower Seed Crop Insurance Provisions. The table that provided specific state and county cancellation and termination dates was inadvertently omitted. Additionally, a comma is being removed in section 11, Settlement of Claim. The correction to the Dry Pea Crop Insurance Provisions will replace the phrase “the sales closing date” with “its sales closing date” that was inadvertently omitted in section 7, Insured Crop. Additionally, the word “types” was inadvertently included twice in a row in section 9, Insurance Period; that section is being edited to remove the repetitive word.

List of Subjects in 7 CFR Part 457

Acreage allotments, Crop insurance, Reporting and recordkeeping requirements.

Accordingly, 7 CFR part 457 is corrected by making the following correcting amendments:

PART 457—COMMON CROP INSURANCE REGULATIONS

1. The authority citation for part 457 continues to read as follows:

Authority: 7 U.S.C. 1506(l) and 1506(o).

2. Amend § 457.108 by:

a. Revising section 4;

b. In section 11, in paragraph (d)(3)(i), removing the comma following the phrase “or conditions”.

The revision reads as follows:

§ 457.108 Sunflower seed crop insurance provisions.

* * * * *

4. Cancellation and Termination Dates.

In accordance with section 2 of the Basic Provisions, the cancellation and termination dates are:

State and county | Cancellation and termination dates
Hidalgo, Jim Wells, Nueces, and Starr Counties, Texas | January 31.
All other Texas counties and all other States | March 15.

* * * * *

§ 457.140 Amended]

3. Amend § 457.140 by:

a. In section 7, in paragraph (c), removing the phrase “the sales closing date” and add the phrase “its sales closing date” in its place.

b. In section 9, in paragraph (a), removing the phrase “spring-planted types types” and add “spring-planted types” in its place.

Richard Flournoy,
Acting Manager, Federal Crop Insurance Corporation.

[FR Doc. 2021-03502 Filed 2-23-21; 8:45 am]

BILLING CODE 3410-08-P